DEPARTMENT OF ENERGY

Federal Energy Regulatory Commission

Combined Notice of Filings #1

Take notice that the Commission received the following electric rate filings:

Docket Numbers: ER21-2460-005.

Applicants: New York Independent System Operator, Inc.

Description: Compliance filing: NYISO Compliance Filing re: Apr 2023 Order on NYISO's Order No. 2222 Compliance to be effective 12/31/9998.

Filed Date: 5/22/23.

Accession Number: 20230522-5156.

Comment Date: 5 p.m. ET 6/12/23.

Docket Numbers: ER23-1618-001.

Applicants: Ocotillo Solar LLC.

Description: Tariff Amendment: Amendment to pending to be effective 4/13/2023.

Filed Date: 5/19/23.

Accession Number: 20230519-5148.

Comment Date: 5 p.m. ET 6/9/23.

Docket Numbers: ER23-1926-000.

Applicants: Missouri Joint Municipal Electric Utility Commission.

Description: Request for Limited Waiver, et al. of Missouri Joint Municipal Electric Utility Commission.

Filed Date: 5/19/23.

Accession Number: 20230519-5116.

Comment Date: 5 p.m. ET 5/30/23.

Docket Numbers: ER23-1929-000.

Applicants: Saint Solar, LLC.

Description: Baseline eTariff Filing: Saint Solar, LLC, Filing of Shared Facilities Agreement to be effective 5/20/2023.

Filed Date: 5/19/23.

Accession Number: 20230519-5149.

Comment Date: 5 p.m. ET 6/9/23.

Docket Numbers: ER23-1930-000.

Applicants: PJM Interconnection, L.L.C.

Description: § 205(d) Rate Filing: Amendment to ISA Nos. 2833 & 2834—Sammis (amend) to be effective 7/22/2023.

Filed Date: 5/22/23.

Accession Number: 20230522-5094.

Comment Date: 5 p.m. ET 6/12/23.

Docket Numbers: ER23-1931-000.

Applicants: Pennsylvania Electric Company, PJM Interconnection, L.L.C.

Description: § 205(d) Rate Filing: Pennsylvania Electric Company submits tariff filing per 35.13(a)(2)(iii: Penelec submits Borderline Service Agreement, Service Agreement No. 6635 to be effective 3/1/1997.

Filed Date: 5/22/23.

Accession Number: 20230522-5152.

Comment Date: 5 p.m. ET 6/12/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 22, 2023.
Debbie-Anne A. Reese,
Deputy Secretary.

[FR Doc. 2023-11343 Filed 5-25-23; 8:45 am]

BILLING CODE 6717-01-P